DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Associated Form, and OMB Number: Physician Certificate for Child Annuitant; DD Form X405; OMB Number 0730-[To Be Determined].

Type of Request: New Collection.

Number of Respondents: 120.

Responses Per Respondent: 1.

Annual Responses: 120.

Average Burden Per Response: 12 minutes.

Annual Burden Hours: 24.

Needs and Uses: The form will be used by the Directorate of Annuity Pay, Defense Finance and Accounting Service, Denver Center (DFAS-DE/FRB), in order to establish and start the annuity for a potential child annuitant. When the form is completed, it will serve as a medical report to substantiate a child's incapacity. The law requires that an unmarried child who is incapacitated must provide a current certified medical report. When the incapacity is not permanent a medical certification must be received by DFAS-DE/FRB every two years in order for the child to continue receiving annuity payments. The respondents are the incapacitated child annuitants and/or their legal guardians, custodians and legal representatives.

Affected Public: Individuals or Households.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: July 12, 2000.
Patricia L. Toppings,
Alternate OSD Federal Register Liaison Officer, Department of Defense.

[FR Doc. 00-18197 Filed 7-18-00; 8:45 am]

BILLING CODE 5001-10-M